DEPARTMENT OF THE INTERIOR

Geological Survey

[GX23BD009AV0100; OMB Control Number 1028-NEW]

Agency Information Collection Activities; Preferences for Climate Adaptation Strategies in the Midwest

AGENCY: U.S. Geological Survey, Interior.

ACTION: Notice of information collection; request for comment.

SUMMARY: In accordance with the Paperwork Reduction Act of 1995 (PRA), the U.S. Geological Survey (USGS), Department of the Interior, is proposing a new information collection.

DATES: Interested persons are invited to submit comments on or before May 12, 2023.

ADDRESSES: Send your comments on this information collection request (ICR) by mail to David Fulton, U.S. Geological Survey, Minnesota Cooperative Fish and Wildlife Research Unit, 216 Hodson Hall, 1980 Folwell Avenue, St. Paul, MN 55108, or by email to dcf@usgs.gov. Please reference Office of Management and Budget (OMB) Control Number 1028-NEW Adaption Strategies in the subject line of your comments.

FOR FURTHER INFORMATION CONTACT: To request additional information about this ICR, contact David Fulton by mail at U.S. Geological Survey, Minnesota Cooperative Fish and Wildlife Research Unit, 216 Hodson Hall, 1980 Folwell Avenue, St. Paul, MN 55108, or by email at dcf@usgs.gov, or by telephone at 612-625-5256. Individuals in the United States who are deaf, deafblind, hard of hearing, or have a speech disability may dial 711 (TTY, TDD, or TeleBraille) to access telecommunications relay services. Individuals outside the United States should use the relay services offered within their country to make international calls to the point-of-contact in the United States. You may also view the ICR at http://www.reginfo.gov/public/do/PRAMain.

SUPPLEMENTARY INFORMATION: In accordance with the PRA (44 U.S.C. 3501 et seq.) and 5 CFR 1320.8(d)(1), all information collections require approval. We may not conduct or sponsor, nor are you required to respond to, a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How the agency might minimize the burden of the collection of information on those who are to respond, including through the use of appropriate automated, electronic, mechanical, or other technological collection techniques or other forms of information technology, e.g., permitting electronic submission of response.

Comments you submit in response to this notice are a matter of public record. We will include or summarize each comment in our request to OMB to approve this ICR. Before including your address, phone number, email address, or other personally identifiable information (PII) in your comment, you should be aware that your entire comment—including your PII—may be made publicly available at any time. While you can ask us in your comment to withhold your PII from public review, we cannot guarantee that we will be able to do so.

Abstract: We propose to collect information to better understand public preferences for climate adaptation strategies in the Midwestern United States. We plan to survey up to 1,000 individual residents in each of the following eight states: Illinois, Indiana, Iowa, Michigan, Minnesota, Missouri, Ohio, and Wisconsin. The survey will gather information on people's perceptions of climate-change impacts, preferences for climate-adaptation strategies to address specific impacts, and whether the level of the respondent's support for adaptation strategies changes when they are provided information about the outcomes of strategies. We will also collect sociodemographic and behavioral information, as well as other characteristics, from study participants to understand the factors that correlate with support for climate-adaptation strategies. This information will help us understand what social-psychological factors influence acceptability of climate adaptation strategies as well as how acceptability might be impacted by communication about the benefits of the strategies. Data will be collected using a web-based survey administered at the University of Minnesota. Participants will be randomly assigned to 4 different treatment or control surveys in which the benefits of the different climate-adaptation strategies will be framed differently. We are designing the study to understand how the framing of benefits from the strategies might influence support for the strategies. We will use information from this study to develop recommendations for engaging the public and stakeholders in developing climate-change adaptation management strategies.

Title of Collection: Preferences for Climate Adaptation Strategies in the Midwest.

OMB Control Number: 1028-NEW.

Form Number: None.

Type of Review: New information collection.

Respondents/Affected Public: Individuals or households residing in 1 of 8 midwestern states.

Total Estimated Number of Annual Respondents: 8,000.

Total Estimated Number of Annual Responses: 8,000.

Estimated Completion Time per Response: 20 minutes.

Total Estimated Number of Annual Burden Hours: 2,667 hours.

Respondent's Obligation: Voluntary.

Frequency of Collection: One time.

Total Estimated Annual Nonhour Burden Cost: None.

An agency may not conduct or sponsor, nor is a person required to respond to, a collection of information unless it displays a currently valid OMB control number.

The authority for this action is the PRA (44 U.S.C. 3501 et seq.).

John D. Thompson,
Deputy Chief, Cooperative Research Units, Ecosystems Mission Area, U.S. Geological Survey.

[FR Doc. 2023-05023 Filed 3-10-23; 8:45 am]

BILLING CODE 4334-63-P